DEPARTMENT OF THE INTERIOR

Fish and Wildlife Service

[FWS-R8-ES-2014-N187; FXES11120000-145-FF08ECAR00]

Final Supplemental Environmental Impact Report/Environmental Impact Statement for a Proposed Amendment to the Coachella Valley Multiple Species Habitat Conservation Plan/Natural Communities Conservation Plan, Riverside County, CA

AGENCY: Fish and Wildlife Service, Interior.

ACTION: Notice of availability.

SUMMARY: We, the U.S. Fish and Wildlife Service (Service), announce the availability of our final Supplemental Environmental Impact Report/Environmental Impact Statement (EIR/EIS) to the approved and certified September 2007 Final Recirculated EIR/EIS for the Coachella Valley Multiple Species Habitat Conservation Plan/Natural Communities Conservation Plan (CVMSHCP, or Plan), in accordance with the National Environmental Policy Act of 1969, as amended (NEPA), and its implementing regulations, as well as in compliance with the Endangered Species Act of 1973, as amended (Act). The final Supplemental EIR/EIS considers the environmental effects associated with adding Desert Hot Springs and Mission Springs Water District (MSWD) as Permittees to the CVMSHCP, and amending the existing incidental take permit.

DATES: A Record of Decision will be signed no sooner than 30 days after the publication date of the Environmental Protection Agency (EPA) notice announcing this final Supplemental Environmental Impact Report/Environmental Impact Statement (EIR/EIS). We will accept comments received or postmarked on or before November 26, 2014.

ADDRESSES:

Obtaining Documents: You may download copies of the final Supplemental EIR/EIS to the approved and certified September 2007 Final Recirculated EIR/EIS for the CVMSHCP and amended Plan on the Internet at http://www.cvmshcp.org. Alternatively, you may use one of the methods below to request hard copies or a CD-ROM of the documents. Please send your requests or comments by any one of the following methods, and specify “CVMSHCP” in your request or comment.

Submitting Comments: You may submit comments or requests for copies or more information by one of the following methods.

• Email: fw8cfwocomments@fws.gov. Include CVMSHCP in the subject line of the message.

• U.S. Mail: U.S. Fish and Wildlife Service, Palm Springs Fish and Wildlife Office, Attn: Mr. Kennon A. Corey, Assistant Field Supervisor, 777 East Tahquitz Canyon Way, Suite 208, Palm Springs, CA 92262.

• In-Person Drop-off, Viewing, or Pickup: Telephone 760-322-2070, to make an appointment during regular business hours to drop off comments or view received comments at address identified above.

• Fax to: Mr. Kennon A. Corey, Assistant Field Supervisor, 760-322-4648, Attn: CVMSHCP.

FOR FURTHER INFORMATION CONTACT: Jenness McBride, Division Chief, Coachella and Imperial Valleys, 777 East Tahquitz Canyon Way, Suite 208, Palm Springs, CA 92262, telephone 760-322-2070. Persons who use a telecommunications device for the deaf (TDD) may call the Federal Information Relay Service (FIRS) at 800-877-8339 to contact the above individual during normal business hours. The FIRS is available 24 hours a day, 7 days a week, to leave a message or question with the above individual. You will receive a reply during normal business hours.

SUPPLEMENTARY INFORMATION: This notice announces the availability of the final Supplemental Environmental Impact Report/Environmental Impact Statement (Supplemental EIR/EIS) under NEPA (42 U.S.C. 4321 et seq.) for the proposed amendment to the Coachella Valley Multiple Species Habitat Conservation Plan/Natural Communities Conservation Plan (CVMSHCP, or Plan). The amendment would add Desert Hot Springs and Mission Springs Water District (MSWD) as permittees to the Plan. This notice advises the public that we, the U.S. Fish and Wildlife Service (Service), have received applications for incidental take permits pursuant to the Act (16 U.S.C. 1531 et seq.) from the City of Desert Hot Springs and Mission Springs Water District (MSWD), Riverside County, California. The Service, in cooperation and coordination with the Coachella Valley Conservation Commission (CVCC), has prepared a final Supplemental EIR/EIS, which includes responses to public comments received on the September 2013 draft Supplemental EIR/EIS, and the proposed amendment to the CVMSHCP to include Desert Hot Springs and MSWD as permittees to the Plan. The final Supplemental EIR/EIS supplements the approved and certified September 2007 Final Recirculated EIR/EIS for the CVMSHCP (72 FR 63922; November 13, 2007), and analyzes the environmental effects associated with the approval of an amendment to add Desert Hot Springs and MSWD as permittees to the existing incidental take permit under section 10(a)(1)(B) of the Act.

Background

Section 9 of the Act and Federal regulations at 50 CFR part 17 prohibit the “take” of fish and wildlife species listed as endangered or threatened. Take of listed fish and wildlife is defined under the Act as to “harass, harm, pursue, hunt, shoot, wound, kill, trap, capture, or collect, or to attempt to engage in any such conduct” (16 U.S.C. 1538). Harm includes significant habitat modification or degradation that results in death or injury to listed wildlife species by significantly impairing essential behavioral patterns, including breeding, feeding, or sheltering (50 CFR 17.3). Under limited circumstances, we may issue permits to authorize incidental take of listed wildlife species, which the Act defines as take that is incidental to, and not the purpose of, the carrying out of otherwise lawful activities.

Regulations governing incidental take permits for threatened and endangered species are at 50 CFR 17.32 and 17.22, respectively. In addition to meeting other criteria, activities covered by an incidental take permit must not jeopardize the continued existence in the wild of federally listed wildlife or plants.

Previous Actions

In February 2006, the Final CVMSHCP and associated Final EIR/EIS were released for review and approval by the participating jurisdictions and agencies as part of the application process to support the issuance of take authorizations by the Service. However, Desert Hot Springs voted to not approve the Plan in June 2006. Subsequently, the Coachella Valley Association of Governments (CVAG) Executive Committee rescinded its approval of the Plan and directed that Desert Hot Springs be removed as a Permittee. A revised Plan and associated EIR/EIS were prepared and recirculated that removed Desert Hot Springs and made other modifications consistent with direction from the CVAG Executive Committee.

The revised and recirculated CVMSHCP was approved and the associated Final Recirculated EIR/EIS was certified by CVAG and the CVCC in September 2007 and subsequently by all local Permittees by the end of October 2007. The State Permittees (Caltrans, Coachella Valley Mountains Conservancy, and California State Parks) approved the Plan and signed the Implementing Agreement in March 2008. The Final Recirculated CVMSHCP, which did not include Desert Hot Springs, received final State and Federal permits on September 9 and October 1, 2008, respectively.

In a reversal of their June 2006 decision, Desert Hot Springs City Council reconsidered their decision and unanimously approved a Memorandum of Understanding (MOU) in October 2007, to enter into negotiations for Desert Hot Springs to join the CVMSHCP as a Permittee. The MOU was subsequently approved by the CVCC, CVAG, and the County of Riverside in February 2008. Subsequent to Desert Hot Springs' decision, the MSWD has also made the decision to join the CVMSHCP as a Permittee. The addition of both entities as Permittees has been evaluated in the Supplemental EIR/EIS.

Proposed Amendments

The amendment to reinstate Desert Hot Springs proposes that the Plan provisions and boundaries be revised according to the February 2006 CVMSHCP, with modifications as described in the September 2007 Final Recirculated CVMSHCP to provide for the Riverside County Flood Control and Water Conservation District's future flood control facility. Therefore, the current Conservation Area boundaries would be amended to include private lands within Desert Hot Springs' city limits and restore the original boundaries of the Upper Mission Creek/Big Morongo Canyon and Whitewater Canyon Conservation Areas within Desert Hot Springs' city limits. Adding Desert Hot Springs as a Permittee requires a Major Amendment to the CVMSHCP in accordance with the requirements outlined in Section 6.12.4 of the Plan. The procedures outlined in Section 6.12.4 state that major amendments require the same process to be followed as the original CVMSHCP approval, including California Environmental Quality Act and NEPA compliance.

In addition, MSWD, not previously a participating agency, has also applied to join the CVMSHCP as a Permittee. MSWD and Desert Hot Springs have proposed that a number of infrastructure projects be included as Covered Activities under the Plan. Covered Activities include certain activities carried out or conducted by Permittees, Participating Special Entities, Third Parties Granted Take Authorization, and others within the CVMSHCP Plan Area, as described in Section 7 of the CVMSHCP, that will receive Take Authorization under the Service's section 10(a)(1)(B) permit and the State NCCP Permit, provided these activities are otherwise lawful. Examples of Desert Hot Springs proposed Covered Activities include roadway improvement projects. Examples of MSWD proposed Covered Activities include construction of wells, water storage facilities, water transmission lines, recycled water lines, and sewer lines. Refer to Table 2-1 and 2-2 in the Supplemental EIR/EIS for Desert Hot Springs and MSWD Covered Activities list, respectively.

Covered activities will increase the existing permitted take by 34 acres, but inclusion of Desert Hot Springs and MSWD will expand conservation area boundaries in Desert Hot Springs to include 770 acres of land to be managed consistent with the CVMSHCP's conservation goals and objectives. Fifteen of the 27 Covered Species and 5 of the 27 Natural Communities will be affected by the Major Amendment. Additional amounts of take, in acres, for Covered Species and Natural Communities are listed in Table 4.1-1 and 4.1-2 in the Supplemental EIR/EIS, respectively.

National Environmental Policy Act Compliance

The Service issued a notice of intent (NOI) to prepare a draft Supplemental EIR/EIS in the Federal Register on Wednesday, March 30, 2011 (76 FR 17666) and a notice of availability of the Draft Supplemental Environmental Impact Report/Environmental Impact Statement for the Proposed Amendment to the CVMSHCP on September 6, 2013 (78 FR 54906), which included a 45-day review public review period. The Draft Supplemental EIR/EIS analyzed the potential environmental impacts that may result from the Federal action of authorizing 34 additional acres of incidental take anticipated to occur with the addition of Desert Hot Springs and MSWD as permittees to the CVMSHCP, and identified various alternatives. We received seven comment letters on the draft Supplemental EIR/EIS. A response to each comment received in these letters has been included in the final Supplemental EIR/EIS and revisions to the CVMSHCP have been made based on those comments. The analysis provided in the Final Supplemental EIR/EIS is intended to accomplish the following: Inform the public of the Service's proposed action and alternatives, and address public comments received on the draft Supplemental EIR/EIS.

Public Review

The Service invites the public to comment on the permit applications, revised CVMSHCP, and final Supplemental EIR/EIS during the public comment period (see DATES). If you wish to comment, you may submit your comments to the address listed in ADDRESSES. Before including your address, phone number, email address, or other personal identifying information in your comment, you should be aware that your entire comment—including your personal identifying information—may be made publicly available at any time. While you may ask us in your comment to withhold your personal identifying information from public review, we cannot guarantee that we will be able to do so.

Next Steps

We will evaluate the applications, associated documents, and comments submitted to determine whether the application meets the requirements of section 10(a) of the Act. The Service will then prepare a Record of Decision. A permit decision will be made no sooner than 30 days after the publication of the Environmental Protection Agency's Final EIS notice in the Federal Register and completion of the Record of Decision.

Dated: October 20, 2014.
Alexandra Pitts,
Deputy Regional Director, Pacific Southwest Region, Sacramento, California.

[FR Doc. 2014-25389 Filed 10-24-14; 8:45 am]

BILLING CODE 4510-55-P